ENVIRONMENTAL PROTECTION AGENCY

40 CFR Part 81

[CA-282-0389; FRL-7515-4]

Approval and Promulgation of Implementation Plans and Designation of Areas for Air Quality Planning Purposes; 1-Hour Ozone Standard for San Diego, California

Correction

In rule document 03-16029 beginning on page 37976 in the issue of Thursday, June 26, 2003 make the following correction:

§ 81.305 [Corrected]

On page 37978, in § 81.305, the table is being reprinted in its entirety.

California—Ozone (1.-Hour Standard)
Designated area | Designation: Date¹ | Designation: Type | Classification: Date¹ | Classification: Type
* * * * * * *
San Diego Area: San Diego County | 7/28/03 | Attainment |
* * * * * * *
¹ This date is November 15, 1990, unless otherwise noted.

[FR Doc. C3-16029 Filed 8-11-03; 8:45 am]

BILLING CODE 1505-01-D